DEPARTMENT OF THE INTERIOR

National Park Service

[N6440; NPS-WASO-NAGPRA-NPS0040850; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects, sacred objects, and/or objects of cultural patrimony and that have a cultural affiliation with the Indian Tribes or Native Hawaiian organizations in this notice.

DATES: Repatriation of the cultural items in this notice may occur on or after September 22, 2025.

ADDRESSES: Send additional, written requests for repatriation of the cultural items in this notice to Elise-Alexandria Green, Sonoma State University, 1801 East Cotati Avenue, Rohnert Park, CA 94928, email elise.green@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 2,547 cultural items have been requested for repatriation from various sites from Humboldt, Trinity, and Mendocino counties. A total of 2,346 cultural items are identified as sacred objects and the other 201 are identified as objects of cultural patrimony.

A total of 115 lots of sacred objects were removed from CA-HUM-1229 in Garberville, California located in Humboldt County. The cultural items include flaked stone debitage and flaked obsidian. The cultural items were removed from the site during a PG&E project to replace transmission and distribution poles along the Garberville-Laytonville Transmission line. The cultural items have been housed at Sonoma State University since 2011 under Accession Number 2011-15.

The five sacred objects from Humboldt County are obsidian projectile points located at the Doublegate Ridge, Ford's Flat near Bridgeville, California, and Buck Mountain. These cultural items were all donated by J.R.R. and have been housed at Sonoma State University since 1982 under Accession Number 82-01.

The 1,930 lots of sacred objects were removed from CA-HUM-945 near Redway, California located in Humboldt County. The cultural items were collected during an archaeological test led by the Federal Highway Administration to evaluate the areas of CA-HUM-945 that would be impacted by the Redway sewer treatment plant upgrade. The cultural items are obsidian flakes, modern debris, faunal bone, sandstone tools, stone tools, quartzite flakes, modified chert, chert flakes, and chert projectile points. The cultural items have been housed at Sonoma State University since 1994 under Accession Number 94-33.

The 256 lots of sacred objects were donated to Sonoma State University by Jere Melo. The cultural items were removed from CA-MEN-1632 in Mendocino County. The cultural items are obsidian flakes, modified obsidian, stone debitage, sandstone tools, groundstone tools, chert projectile points, faunal bone, charcoal, shell and flake tools. The cultural items have been housed at Sonoma State University since 1986 under Accession Number 86-03.

The 40 lots of sacred objects donated to Sonoma State University by Jere Melo are chert flakes. At the time of their removal and donation the cultural items were identified to be from CA-MEN-1631 near Wheeler, California located in Mendocino County. However, CA-MEN-1631 has since been combined with CA-MEN-1632. The cultural items have been housed at Sonoma State University since 1986 under Accession Number 86-03.

The two objects of cultural patrimony were removed from Rohnerville, California located in Humboldt County. These cultural items include faunal bone and modified chert that were removed from the location during an archaeological survey. The cultural items have been housed at Sonoma State University since 1976 under Accession Number 76-09.

The two objects of cultural patrimony were removed near Dinsmore River in Humboldt County. There is little additional information as to how the cultural items were collected and became housed at Sonoma State. The cultural items are modified chert and have been housed at Sonoma State University since 1983 under Accession Number 83-01.

A total of 14 objects of cultural patrimony were removed from CA-HUM-1230 in Garberville, California located in Humboldt County. The cultural items are flaked stone debitage. The cultural items were removed from the site during a PG&E project to replace transmission and distribution poles along the Garberville-Laytonville Transmission line. The cultural items have been housed at Sonoma State University since 2011 under Accession Number 2011-13.

A total of three objects of cultural patrimony were removed from CA-HUM-1231 in Garberville, California located in Humboldt County. The cultural items are flaked stone debitage. The cultural items were removed from the site during a PG&E project to replace transmission and distribution poles along the Garberville-Laytonville Transmission line. The cultural items have been housed at Sonoma State University since 2011 under Accession Number 2011-14.

A total of two lots of objects of cultural patrimony were removed from CA-TRI-240 near Hyampom, California located in Trinity County. The cultural items are sandstone. There is little additional information as to how the cultural items were collected and made it to Sonoma State. The cultural items have been housed at Sonoma State University since 1982 under Accession Number 82-01.

A total of 19 objects of cultural patrimony were removed from CA-TRI-854 during the Kerawaka Creek Survey in Trinity County. The cultural items are chert projectile points and modified chert flakes. The cultural items have been housed at Sonoma State University since 1982 under Accession Number 82-01.

A total of one object of cultural patrimony was removed from CA-TRI-856 during the Kekwaka Creek Survey in Trinity County. The cultural item is a groundstone tool. The cultural item has been housed at Sonoma State University since 1982 under Accession Number 82-01.

A total of two objects of cultural patrimony were removed from CA-TRI-859 during the Kekawaka Creek Survey in Trinity County. The cultural items are a groundstone tool and modified chert. The cultural items have been housed at Sonoma State University since 1982 under Accession Number 82-01.

A total of one object of cultural patrimony was removed from CA-TRI-860 during the Kekawaka Creek Survey in Trinity County. The cultural item is a chert projectile point. The cultural item has been housed at Sonoma State University since 1982 under Accession Number 82-01.

There were 135 lots of objects of cultural patrimony donated to Sonoma State University by Jere Melo. At the time of the cultural object's removal and donation to Sonoma State, they were identified to have been removed from CA-MEN-1672 near Wheeler, California in Mendocino County. However, since then CA-MEN-1672 has been combined to fall within CA-MEN-1671. The cultural items are chert flakes, sandstone, groundstone tools, chert projectile points, faunal bone, and flake tools. The cultural items have been housed at Sonoma State University since 1986 under Accession Number 86-03.

A total of 20 lots of objects of cultural patrimony were donated to Sonoma State University by Jere Melo. The cultural items were removed from CA-MEN-1673 near Wheeler, California located in Mendocino County. The cultural items are chert flakes and chert projectile points. The cultural items have been housed at Sonoma State University since 1986 under Accession Number 86-03.

Based on records concerning the sacred objects, objects of cultural patrimony, and the institution in which they are housed, there is no evidence of the cultural items being treated with hazardous substances.

Determinations

The Sonoma State University has determined that:

• The 2,346 sacred objects described in this notice are specific ceremonial objects needed by a traditional Native American religious leader for present-day adherents to practice traditional Native American religion, according to the Native American traditional knowledge of a lineal descendant, Indian Tribe, or Native Hawaiian organization.

• The 201 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Bear River Band of the Rohnerville Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: August 6, 2025.
Melanie O'Brien,
Manager, National NAGPRA Program.

[FR Doc. 2025-15971 Filed 8-20-25; 8:45 am]

BILLING CODE 4312-52-P